DEPARTMENT OF ENERGY

Federal Energy Regulatory Commission

[Docket No. RP03-221-008]

High Island Offshore System, L.L.C.; Notice of Filing

September 12, 2005.

Take notice that on September 8, 2005, High Island Offshore System, L.L.C. (HIOS), tendered for filing its Refund Report in Docket No. RP03-221-003 and 004.

HIOS states that the purpose of the filing is to provide to the Commission the Refund Report as required by the Commission's regulations 18 CFR 154.501, and the Commission Order dated July 7, 2005.

HIOS state that copies of its filing have been mailed to all customers, state commissions, and other interested parties.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on September 19, 2005.

Magalie R. Salas,
Secretary.

[FR Doc. E5-5100 Filed 9-16-05; 8:45 am]

BILLING CODE 6717-01-P